DEPARTMENT OF HEALTH AND HUMAN SERVICES

Centers for Disease Control and Prevention

[60Day-05BQ]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-371-5983 or send comments to Seleda Perryman, CDC Assistant Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Understanding the Community Context of the Diabetes Education in Tribal Schools Project—New—National Center for Chronic Disease Prevention and Health Promotion/Division of Diabetes Translation (NCCDPHP/DDT), Centers for Disease Control and Prevention (CDC).

Background and Brief Description: This study is part of a larger evaluation of the multi-year Diabetes Education in Tribal Schools (DETS) project to develop and pilot test a science based diabetes prevention curriculum for Native American school children. As part of the overall evaluation (before the curriculum is pilot tested), it will be important to understand the community context and identify implementation issues. Through a series of qualitative interviews with key informants, the study will obtain information about: (1) The community's experience with diabetes; (2) community readiness to adopt the DETS curriculum; (3) the connection between the DETS project and the community; and (4) the best fit between the curriculum and community schools.

The participants for this study will include key informants in five categories: Community leaders, DETS Advisory Board members, DETS Curriculum Subcommittee members, community teachers, and community parents. Potential participants will be identified by DETS Subcommittee members and invited to participate in this research activity. These individuals will be invited to participate because they are already involved in the project and are familiar with the curriculum.

A maximum of 18 individuals from each category will be interviewed for a total of 90 participants. All participants will be adults, both male and female, over the age of 18. It is expected that approximately 75% of participants will be Native American and 25% will be non-Native American. There is no cost to respondents other than their time.

Estimate of Annualized Burden Table:

Respondent | Number of respondents | Number of responses per respondent | Avg. burden per response (in hours) | Total burden hours
Community Leaders/Elders | 18 | 1 | 45/60 | 13.5
Parents | 18 | 1 | 45/60 | 13.5
Teachers | 18 | 1 | 45/60 | 13.5
DETS Curriculum Subcommittee Members | 18 | 1 | 45/60 | 13.5
DETS Advisory Board Members | 18 | 1 | 45/60 | 13.5
Totals: | 90 |  |  | 67.5

Dated: March 21, 2005.
Betsey Dunaway,
Acting Reports Clearance Officer, Centers for Disease Control and Prevention.

[FR Doc. 05-6032 Filed 3-25-05; 8:45 am]

BILLING CODE 4163-18-P